DEPARTMENT OF COMMERCE

International Trade Administration

[C-428-848]

Forged Steel Fluid End Blocks From the Federal Republic of Germany: Preliminary Results and Partial Recission of the Countervailing Duty Administrative Review; 2022

AGENCY: Enforcement and Compliance, International Trade Administration, Department of Commerce.

SUMMARY: The U.S. Department of Commerce (Commerce) preliminarily determines that countervailable subsidies are being provided to BGH Edelstahl Siegen GmbH (BGH), a producer and exporter of forged steel fluid end blocks (fluid end blocks) from the Federal Republic of Germany (Germany). The period of review (POR) is January 1, 2022, through December 31, 2022.

DATES: Applicable February 7, 2024.

FOR FURTHER INFORMATION CONTACT: Shane Subler or Rachel Accorsi, AD/CVD Operations, Office VIII, Enforcement and Compliance, International Trade Administration, U.S. Department of Commerce, 1401 Constitution Avenue NW, Washington, DC 20230; telephone: (202) 482-6241 or (202) 482-3149, respectively.

SUPPLEMENTARY INFORMATION:

Background

On January 31, 2023, we received a timely request for an administrative review from the petitioner ¹ and BGH.² On March 14, 2023, Commerce published a notice of initiation of an administrative review of the countervailing duty (CVD) order on fluid end blocks from Germany.³ On April 20, 2023, we selected BGH and Schmiedewerke Gröditz GmbH (SWG) as mandatory respondents in this administrative review.⁴ On September 27, 2023, Commerce extended the deadline for the preliminary results of this review until January 31, 2024.⁵

¹ The petitioner is the FEB Fair Trade Coalition, which is comprised of the Ellwood City Forge Company, Ellwood Quality Steels Company, Ellwood National Steel Company, and A. Finkl & Sons.

² See Petitioner's Letter, “Request for Administrative Review of Countervailing Duty Order,” dated January 31, 2023; see also BGH's Letter, “Request for Administrative Review,” dated January 31, 2023.

³ See Initiation of Antidumping and Countervailing Duty Administrative Reviews, 88 FR 15642 (March 14, 2023); see also Forged Steel Fluid End Blocks from the People's Republic of China, the Federal Republic of Germany, India, and Italy: Countervailing Duty Orders, and Amended Final Affirmative Countervailing Duty Determination for the People's Republic of China, 86 FR 7535 (January 29, 2021) (Order).

⁴ See Memorandum, “Respondent Selection,” dated April 20, 2023.

⁵ See Memorandum, “Extension of Deadline for Preliminary Results of Countervailing Duty Administrative Review,” dated September 27, 2023.

For a complete description of the events that followed the initiation of this review, see the Preliminary Decision Memorandum.⁶ A list of topics discussed in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results and Partial Rescission of the Countervailing Duty Administrative Review; 2022: Forged Steel Fluid End Blocks from the Federal Republic of Germany,” dated concurrently with, and hereby adopted by, this notice (Preliminary Decision Memorandum).

Scope of the Order

The products covered by the Order are fluid end blocks from Germany. For a complete description of the scope of the Order, see the Preliminary Decision Memorandum.

Rescission of Administrative Review, in Part

On April 28, 2023, the petitioner timely withdrew its requests for an administrative review with respect to Schmiedewerke Gröditz GmbH (SWG), voestalpine Bohler Welding Group GmbH (VBG), Buderus Edelstahl GmbH (Buderus), Deutsche Edelstahlwerke GmbH (Edelstahlwerke), and Saarschmiede GmbH FreiformSchmiede (SSF).⁷ On May 3, 2023, Commerce notified interested parties that it had suspended the questionnaire response deadlines for SWG based on the petitioners' timely withdrawal of its requests for an administrative review with respect to all companies except for BGH.⁸ As no other party requested a review of the above-referenced five companies, in accordance with 19 CFR 351.213(d)(1), we are rescinding this administrative review with respect to SWG, VBG, Buderus, Edelstahlwerke, and SSF. For additional information regarding this determination, see the Preliminary Decision Memorandum.

⁷ See Petitioner's Letter, “Petitioners' Withdrawal of Request for 2022 Administrative Review for Certain Entities,” dated April 28, 2023.

⁸ See Memorandum, “Suspension of Questionnaire Response Deadline,” dated May 3, 2023.

Methodology

Commerce is conducting this CVD administrative review in accordance with section 751(a)(1)(A) of the Tariff Act of 1930, as amended (the Act). For each of the subsidy programs found to be countervailable, Commerce preliminarily determines that there is a subsidy, i.e., a financial contribution by an “authority” that gives rise to a benefit to the recipient, and that the subsidy is specific.⁹ For a full description of the methodology underlying our conclusions, see the Preliminary Decision Memorandum.

⁹ See sections 771(5)(B) and (D) of the Act regarding financial contribution; section 771(5)(E) of the Act regarding benefit; and section 771(5A) of the Act regarding specificity.

Preliminary Results of Review

As a result of this review, we preliminarily determine the following net countervailable subsidy rate for the POR January 1, 2022, through December 31, 2022:

Company | Subsidy rate (percent ad valorem)
BGH Edelstahl Siegen GmbH¹⁰ | 2.54

Disclosure and Public Comment

¹⁰ As discussed in the Preliminary Decision Memorandum, Commerce found the following companies to be cross-owned with BGH Edelstahl Siegen GmbH: Boschgotthardshütte O. Breyer GmbH, BGH Edelstahlwerke GmbH, RPS Rohstoff-, Press- und Schneidbetrieb Siegen GmbH, and SRG Schrott und Recycling GmbH.

Commerce intends to disclose its calculations performed to interested parties for these preliminary results within five days of any public announcement or, if there is no public announcement, within five days of the date of publication of this notice in accordance with 19 CFR 351.224(b).

Case briefs or other written comments may be submitted to the Assistant Secretary for Enforcement and Compliance.¹¹ A timeline for the submission of case briefs and written comments will be notified to interested parties at a later date. Rebuttal briefs, limited to issues raised in the case briefs, may be filed not later than five days after the date for filing case briefs.¹² Interested parties who submit case briefs or rebuttal briefs in this proceeding must submit: (1) a table of contents listing each issue; and (2) a table of authorities.¹³

¹¹ See 19 CFR 351.309(c)(1)(ii); see also 19 CFR 351.303 for general filing requirements.

¹² See 19 CFR 351.309(d); see also Administrative Protective Order, Service, and Other Procedures in Antidumping and Countervailing Duty Proceedings, 88 FR 67069, 67077 (September 29, 2023) (APO and Service Final Rule).

¹³ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁴ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Verification

As provided in section 782(i)(3) of the Act, Commerce intends to verify the information relied upon in making its final determination.

Final Results

Unless the deadline is extended pursuant to section 751(a)(3)(A) of the Act and 19 CFR 351.213(h)(2), Commerce intends to issue the final results of this administrative review, including the results of its analysis of the issues raised by the parties in any written briefs, no later than 120 days after the date of publication of these preliminary results.

Assessment Rate

In accordance with 19 CFR 351.221(b)(4)(i), we preliminarily assigned a subsidy rate in the amount shown above for BGH. Upon completion of the administrative review, consistent with section 751(a)(1) of the Act and 19 CFR 351.212(b)(2), Commerce shall determine, and U.S. Customs and Border Protection (CBP) shall assess, countervailing duties on all appropriate entries covered by this review.

For the companies in which this review is rescinded, we will instruct CBP to assess countervailing duties on all appropriate entries at a rate equal to the cash deposit of estimated countervailing duties required at the time of entry, or withdrawal from warehouse, for consumption, during the period January 1, 2022, through December 31, 2022, in accordance with 19 CFR 351.212(c)(l)(i). We intend to issue assessment instructions to CBP no earlier than 35 days after the date of publication of this notice in the Federal Register.

For BGH, we intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amount shown for BGH (and its cross-owned affiliates) listed above on shipments of subject merchandise entered, or withdrawn from warehouse, for consumption on or after the date of publication of the final results of this administrative review. For all non-reviewed firms, we will instruct CBP to continue to collect cash deposits at the most recent company-specific, or all others rate (i.e., 6.29 percent),¹⁶ applicable to the company. These cash deposit requirements, when imposed, shall remain in effect until further notice.

¹⁶ See Order, 86 FR at 7536.

Notification to Interested Parties

These preliminary results are issued and published pursuant to sections 751(a)(1) and 777(i)(1) of the Act, and 19 CFR 351.221(b)(4).

Dated: January 31, 2024.
Abdelali Elouaradia,
Deputy Assistant Secretary for Enforcement and Compliance.

Appendix

List of Topics Discussed in the Preliminary Decision Memorandum

I. Summary

II. Background

III. Partial Recission of Review

IV. Scope of the Order

V. Subsidies Valuation Information

VI. Interest Rate Benchmarks

VII. Analysis of Programs

VIII. Recommendation

[FR Doc. 2024-02423 Filed 2-6-24; 8:45 am]

BILLING CODE 3510-DS-P